DEPARTMENT OF DEFENSE

Office of the Secretary

Privacy Act of 1974; System of Records

AGENCY: Office of the Inspector General, DoD.

ACTION: Notice to alter a system of records; CIG-06—Investigative Files.

SUMMARY: The Office of the Inspector General (OIG) of the Department of Defense (DoD) proposes to alter a system of records to its inventory of record systems subject to the Privacy Act of 1974 (5 U.S.C. 552a), as amended, by adding two new routine uses that will permit the sharing of information with other (1) Federal Inspector General Offices, the President's Council on Integrity and Efficiency, and/or Federal law enforcement agencies in the conduct of investigations or when responding to such offices, Council, and agencies in connection with investigations of potential violations of law, rule, or regulation and (2) Federal Inspector General offices, the President's Council on Integrity and Efficiency, and the Department of Justice in the review of internal safeguards and management procedures employed by the OIG of the DoD.

DATES: The changes will be effective on June 22, 2005, unless comments are received that would result in a contrary determination.

ADDRESSES: Send comments to Chief, FOIA/PA Office, Inspector General, Department of Defense, 400 Army Navy Drive, Room 201, Arlington, VA 22202-4704.

FOR FURTHER INFORMATION CONTACT: Mr. Darryl R. Aaron at (703) 604-9785.

SUPPLEMENTARY INFORMATION: The Office of the Inspector General notices for systems of records subject to the Privacy Act of 1974 (5 U.S.C. 552a), as amended, have been published in the Federal Register and are available from the address above.

The proposed systems reports, as required by 5 U.S.C. 552a(r) of the Privacy Act of 1974, as amended, were submitted on May 4, 2005, to the House Committee on Government Reform, the Senate Committee on Homeland Security and Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: May 18, 2005.
Jeannette Owings-Ballard,
OSD Federal Register Liaison Officer, Department of Defense.

CIG-06

System name:

Investigative Files (November 12, 2003, 68 FR 64088).

Changes:

* * * * *

Routine uses of records maintained in the system, including categories of users and the purposes of such uses:

Add new paragraphs four and five to read: To other Federal Inspector General offices, the President's Council on Integrity and Efficiency, and/or other Federal law enforcement agencies for the purpose of coordinating and conducting administrative inquiries and civil and criminal investigations, or when responding to such offices, Council, and agencies in connection with the investigation of potential violations of law, rule, and/or regulation.

To other Federal Inspector General offices, the President's Council on Integrity and Efficiency, and/or the Department of Justice for purposes of conducting external reviews to ensure that adequate internal safeguards and management procedures continue to exist within the Office of the Inspector General of the Department of Defense.

* * * * *

CIG-06

System name:

Investigative Files.

Primary location:

Office of the Deputy Inspector General for Investigations, Defense Criminal Investigative Service, Office of the Inspector General, Department of Defense, 400 Army Navy Drive, Arlington, VA 22202-4704.

Decentralized locations:

Regional Field Offices; Resident Agencies; and various other OIG DoD Offices. A complete list of these decentralized locations can be obtained by writing to the ‘System manager’.

Categories of individuals covered by the system:

DoD civilian personnel; members of the Armed Forces of the United States, Reserve components, and National Guard units; DoD contractors; individuals residing on, having authorized official access to, or contracting or operating any business or other functions at any DoD installation or facility; and individuals not affiliated with the Department of Defense when their activities have directly threatened the functions, property or personnel of the Department of Defense, or they have threatened any other high ranking government personnel who are provided protective service mandated by the Secretary of Defense, or they have engaged in, or are alleged to engage in criminal acts on DoD installations or directed at the Department of Defense, its personnel or functions; or individuals information regarding DoD activities falling under the purview of OIG responsibilities.

Categories of records in the system:

Reports of Investigations (ROIs), Information Reports (IRs) and criminal intelligence reports containing statements of witnesses, suspects, subject(s) and special agents; laboratory reports, polygraph records to include charts, reports, technical data, rights waivers, polygraph waivers, numerical score sheets, interview logs, test questions sheets, and all other documents relating to the polygraphs, all consensual or non consensual monitoring, documentary evidence, physical evidence, summary and administrative data pertaining to preparation and distribution of the report; basis for allegations; investigative information from Federal, State, and local investigative and intelligence agencies and departments and all correspondence relevant to the investigation, location of investigation, year and date of offense, names and personal identifiers of persons who have been subjects of electronic surveillance, suspects, subjects witnesses and victims of crimes, report number which allows access to records noted above; agencies, firms, and Defense Department organizations which were the subject(s) or victim(s) of criminal investigations; and disposition and suspense of offenders listed in criminal investigative files, agents notes, working papers, confidential source documents, subpoenas, Grand Jury documents, finger print cards, witness identification data, requests approvals for case openings and or closings, special investigative techniques requiring approval by management, and any other miscellaneous documents supporting the case files.

Authority for maintenance of the system:

Inspector General Act of 1978 (Pub. L. 95-452), as amended; DoD Directive 5106.1, Inspector General of the Department of Defense; and E.O. 9397 (SSN).

Purpose(s):

To conduct criminal investigations, crime prevention and criminal intelligence activities, to accomplish management studies involving the analysis, compilation of statistics, quality control, to ensure that completed investigations are legally sufficient and result in overall improvement in techniques, training and professionalism. Includes personnel security, internal security, criminal, and other law enforcement matters, all of which are essential to the effective operation of the Office of the Inspector General.

The records in this system are used for the following purposes:

Suitability, loyalty, eligibility, and general trustworthiness of individuals for access or continued access to classified information and suitability for access to government facilities or industrial firms engaged in government projects/contracts; contractor responsibility and suspension/debarment determinations; suitability for awards or similar benefits; use in current law enforcement investigation or program of any type; use in judicial or adjudicative proceedings including litigation or in accordance with a court order; to identify offenders, to provide facts and evidence upon which to base prosecution, to provide information to other investigative elements of the Department of Defense having jurisdiction over the substance of the allegations or a related investigative interest in criminal law enforcement investigations including statutory violations, counter-intelligence, counter-espionage and counter-terrorist activities and other security matters; to effect corrective administrative action and to recover money and property which has been wrongfully used or misappropriated; to make statistical evaluations and reports; to make decisions affecting personnel actions concerning members of the Armed Forces and or Federal employees; and to respond to other complaint investigations and congressional inquires as appropriate.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To the U.S. Secret Service in conjunction with the protection of persons under its jurisdiction.

To other Federal, State, or local agencies having jurisdiction over the substance of the allegations or a related investigative interest in criminal law enforcement investigations including statutory violations, counter-intelligence, counter-espionage and counter-terrorist activities and other security matters.

To other Federal Inspector General offices, the President's Council on Integrity and Efficiency, and/or other Federal law enforcement agencies for the purpose of coordinating and conducting administrative inquiries and civil and criminal investigations, or when responding to such offices, Council, and agencies in connection with the investigation of potential violations of law, rule, and/or regulation.

To other Federal Inspector General offices, the President's Council on Integrity and Efficiency, and/or the Department of Justice for purposes of conducting external reviews to ensure that adequate internal safeguards and management procedures continue to exist within the Office of the Inspector General of the Department of Defense.

The DoD ‘Blanket Routine Uses’ set forth at the beginning of the OIG's compilation of systems of records notices also apply to this system.

Policies and practices for storing, retrieving, accessing, retaining, and disposing of records in the system:

Storage:

Records are stored on paper in file folders and on electronic storage media.

Retrievability:

Records are retrieved by individual's name, Social Security Number, Military Service Number, or case control number.

Safeguards:

Office is locked and building is protected by guards during non-duty hours. All OIG records are stored in locked safes and are accessible only to authorized personnel who have a need-to-know in conjunction with their official duties. Computerized listings are password protected.

Retention and disposal:

Investigative Case files and Information Reports are maintained in the office of origin for two years after case closure and then transferred to the OIG DoD Headquarters for final preparation and final transfer to the Washington National Records Center where they are retained for 20 years and 10 years, respectively, and ultimately destroyed.

Those records which attract great public or judicial attention or document a historical development in the OIG DoD may be deemed permanent and transferred directly to the National Archives and Records Administration.

System manager(s) and address:

Director, Internal Operations Directorate, Office of the Deputy Inspector General for Investigations, Defense Criminal Investigative Service, Office of the Inspector General of the Department of Defense, 400 Army Navy Drive, Arlington, VA 22202-4704.

Notification procedure:

Individuals seeking to determine whether information about themselves is contained in this system should address written inquiries to the Chief, Freedom of Information Act/Privacy Act Office, 400 Army Navy Drive, Arlington, VA 22202-4704.

Written requests should contain the individual's full name (including former names and aliases), and Social Security Number, current home address, telephone number, and the request must be signed.

Record access procedures:

Individuals seeking access to information about themselves contained in this system should address written inquiries to the Chief, Freedom of Information Act/Privacy Act Office, 400 Army Navy Drive, Arlington, VA 22202-4704.

Written requests should contain the individual's full name (including former names and aliases), and Social Security Number, current home address, telephone number, and the request must be signed.

Contesting record procedures:

The OIG's rules for accessing records and for contesting contents and appealing initial agency determinations are published in 32 CFR part 312 or may be obtained from the system manager.

Record source categories:

Subjects and suspects of OIG investigations. Interview of witnesses, victims, and confidential sources. All types of records and information maintained by all levels of government, private industry, and non-profit organizations reviewed during the course of the investigation or furnished the OIG. Any other type of record deemed necessary to complete the OIG investigation.

Exemptions claimed for the system:

Parts of this system may be exempt pursuant to 5 U.S.C. 552a(j)(2) if the information is compiled and maintained by a component of the agency that performs as its principle function any activity pertaining to the enforcement of criminal laws.

An exemption rule for this record system has been promulgated in accordance with the requirements of 5 U.S.C. 553(b)(1), (2), and (3), (c) and (e) and published in 32 CFR part 312. For additional information contact the system manager.

[FR Doc. 05-10214 Filed 5-20-05; 8:45 am]

BILLING CODE 5001-06-P